DEPARTMENT OF COMMERCE

International Trade Administration

[A-549-853]

Notice of Extension of the Deadline for Determining the Adequacy of the Antidumping Duty Petition: Large Top Mount Combination Refrigerator-Freezers From Thailand

AGENCY: Enforcement and Compliance, International Trade Administration, Department of Commerce.

DATES: Applicable June 14, 2024.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Extension of Initiation of Investigation

The Petition

On May 30, 2024, the U.S. Department of Commerce (Commerce) received an antidumping duty petition on imports of large top mount combination refrigerator-freezers (refrigerators) from Thailand, filed in proper form on behalf of Electrolux Consumer Products, Inc. (the petitioner), a domestic producer of refrigerators.¹

¹ See Petitioner's Letter, “Petition for the Imposition of Antidumping Duties,” dated May 30, 2024 (Petition).

Determination of Industry Support for the Petition

Section 732(b)(1) of the Tariff Act of 1930, as amended (the Act), requires that a petition be filed by or on behalf of the domestic industry. To determine that the petition has been filed by or on behalf of the industry, section 732(c)(4)(A) of the Act requires that the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) if there is a large number of producers, determine industry support using a statistically valid sampling method to poll the industry.

Extension of Time

Section 732(c)(1)(A) of the Act provides that within 20 days of the filing of an antidumping duty petition, Commerce will determine, inter alia, whether the petition has been filed by or on behalf of the U.S. industry producing the domestic like product. Section 732(c)(1)(B) of the Act provides that the deadline for the initiation determination, in exceptional circumstances, may be extended by 20 days in any case in which Commerce must “poll or otherwise determine support for the petition by the industry.” Because the Petition has not established that the domestic producers or workers accounting for more than 50 percent of total production support the Petition, in accordance with section 732(c)(4)(D) of the Act, Commerce has determined that it should poll the industry and extend the time period for determining whether to initiate the investigation in order to further examine the issue of industry support.

Commerce will need additional time to gather and analyze additional information regarding industry support. Therefore, it is necessary to extend the deadline for determining the adequacy of the Petition for a period not to exceed 40 days from the filing of the Petition. As a result, in accordance with section 732(c)(1)(B) of the Act, Commerce's initiation determination will now be due no later than July 9, 2024.

International Trade Commission Notification

Commerce will contact the U.S. International Trade Commission (ITC) and will make this extension notice available to the ITC.

Dated: June 14, 2024.
James Maeder,
Deputy Assistant Secretary for Antidumping and Countervailing Duty Operations.

[FR Doc. 2024-13593 Filed 6-20-24; 8:45 am]

BILLING CODE 3510-DS-P